DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. chapter 35). The submission described the nature of the information collection, the categories of respondents, the estimated burden (i.e., the time, effort and resources used by respondents to respond) and cost, and includes the actual data collection instruments FEMA will use.

Title: FEMA Grant Administrative Forms.

OMB Number: 1660-0025.

Abstract: The collection of information focuses on the standardization and consistent use of standard and FEMA forms associated with grantees requests for disaster and non-disaster Federal assistance submission of financial and administrative reporting, and recordkeeping. The use of the forms will minimize burden on the respondents and enable FEMA to continue to improve in its grants administration practices. The following FEMA grants are included in this collection:

• Individual and Family Grants (IFG)—To provide funds for the necessary expenses and serious needs of disaster victims which cannot be met through other forms of disaster assistance or through other means such as insurance.

• Public Assistance Grants (PA)—To provide supplemental assistance to States, local governments, and political subdivisions to the State, Indian Tribes, Alaskan Native Villages, and certain nonprofit organizations in alleviating suffering and hardship resulting from major disasters or emergencies declared by the President.

• Crisis Counseling (SCC)—To provide immediate crisis counseling services, when required, to victims of a major Federally-declared disaster for the purpose of relieving mental health problems caused or aggravated by a major disaster or its aftermath.

• Hazard Mitigation Grant (HMGP)—To provide States and local governments financial assistance to implement measures that will permanently reduce or eliminate future damages and losses from natural hazards through safer building practices and improving existing structures and supporting infrastructure.

• Flood Mitigation Assistance (FMA)—To assist States and communities in implement measures to reduce or eliminate the long-term risk of flood damage to buildings, manufactured homes, and other structures insurable under the National Flood Insurance Program (NFIP).

• Pre-Disaster Mitigation (PDM)—To provide States and communities with a much needed source of pre-disaster mitigation funding for cost-effective hazard mitigation activities that are part of a comprehensive mitigation program, and that reduce injuries, loss of life, and damage and destruction of property.

• National Urban Search and Rescue (US&R) Response System—To develop an immediately deployable, national response capability to locate and extricate, and medically stabilize victims of structural collapse during a disaster, while simultaneously enhancing the US&R response capabilities of States and local governments.

• Community Assistance Program-State Support Services Element (CAP-SSSE)—To ensure that communities participating in the National Flood Insurance Program (NFIP) are achieving flood loss reduction measures consistent with program direction. The CAP-SSSE is intended to identify, prevent and resolve floodplain management issues in participating communities before they develop into problems requiring enforcement action.

• Chemical Stockpile Emergency Preparedness Program (CSEPP)—To enhance emergency preparedness capabilities of the States and local communities at each of the eight chemical agent stockpile storage facilities. The purpose of the program is to assist States and local communities in efforts to improve their capacity to plan for the respond to accidents associated with the storage and ultimate disposal of chemical warfare materials.

• National Dam Safety Program (NDSP)—To encourage the establishment and maintenance of effective State programs intended to ensure dam safety, to protect human life and property, and to improve State dam safety programs.

• Emergency Management Performance Grants (EMPG)—To encourage the development of comprehensive emergency management, including for terrorism consequence management, at the State and local level and to improve emergency planning, preparedness, mitigation, response, and recovery capabilities.

• Community Emergency Response Teams (CERT)—The purpose of the CERT program is to assist State and local efforts to start or expand CERT training and activities that contribute to the strengthening of homeland security by enhancing individual, community, family, and workplace preparedness.

• Interoperable Communications Equipment (ICE)—To provide funding to jurisdictions across the nation for demonstration projects on uses of equipment and technologies to increase communication interoperability among the fire service, law enforcement, and emergency medical service communities. These projects will illustrate and encourage the acceptance of new technologies and operating methods to assist communities in achieving interoperability.

• Cooperating Technical Partners (CTP)—To increase local involvement in, and ownership of, the development and maintenance of flood hazard maps produced for the National Flood Insurance Program (NFIP).

Affected Public: State, local or tribal government.

Number of Respondents: 56.

Estimated Time per Respondent: See Table Below.

Disaster Programs
Disaster program data collections | Number of respondents | Number of responses | Hour burden per response | Total burden hours × 50 disasters annually (in hours)
IFG:
SF 424 | 56 | 1 | 45 minutes | 2,100
FF 20-20 | 56 | 1 | 9.7 hours | 27,300
FF 20-16,A,B,C | 56 | 1 | 1.7 hours | 4,900
FF 20-10 | 56 | 1 | 1 hour | 2,800
Subtotal | 56 | 4 |  | 37,100
PA:
SF 424 | 56 | 1 | 45 minutes | 2,100
FF 20-20 | 56 | 1 | 9.7 hours | 27,300
FF 20-16,A,B,C | 56 | 1 | 1.7 hours | 4,900
FF 20-10 | 56 | 1 | 1 hour | 2,800
Subtotal | 56 | 4 |  | 37,100
SCC:
SF 424 | 17 | 1 | 45 minutes | 637.5
FF 20-16,A,B,C | 17 | 1 | 1.7 hours | 1,487.5
FF 20-10 (SF 269) | 17 | 1 | 1 hour | 850
SF LLL | 17 | 1 | 10 minutes | 141.5
Subtotal | 17 | 4 |  | 3,116.5
HMGP:
SF 424 | 52 | 1 | 45 minutes | 1,950
FF 20-20 | 52 | 15 | 9.7 hours | 380,250
FF 20-16,A,B,C | 52 | 1 | 1.7 hours | 4,550
FF 20-10 | 52 | 4 | 1 hour | 10,400
FF 20-17 | 52 | 15 | 17.2 hours | 672,750
FF 20-18 | 52 | 6 | 4.2 hours | 66,300
FF 20-19 | 52 | 6 | 5 minutes | 1,300
SF LLL | 52 | 1 | 10 minutes | 433
Subtotal | 52 | 49 |  | 1,137,933
FMA:
SF 424 | 56 | 3 | 45 minutes | 6,300
FF 20-20 | 56 | 3 | 9.7 hours | 81,900
FF 20-16,A,B,C | 56 | 1 | 1.7 hours | 4,900
FF 76-10A | 56 | 3 | 1.2 hours | 10,500
FF 20-10 | 56 | 4 | 1 hour | 11,200
FF 20-18 | 56 | 1 | 4.2 hour | 11,900
FF 20-19 | 56 | 1 | 5 minutes | 233
SF LLL | 56 | 1 | 10 minutes | 466.5
Subtotal | 56 | 17 |  | 127,399.5
PDM
SF 424 | 56 | 2 | 45 minutes | 4,200
FF 20-15 | 56 | 1 | 17.2 hours | 48,300
FF 20-20 | 56 | 2 | 9.7 hours | 54,600
FF 76-10A | 56 | 2 | 1.2 hours | 7,000
FF 20-16,A,B,C | 56 | 2 | 1.7 hours | 9,800
FF 20-10 | 56 | 8 | 1 hour | 22,400
FF 20-17 | 56 | 20 | 17.2 hours | 966,000
FF 20-18 | 56 | 2 | 4.2 hours | 23,800
FF 20-19 | 56 | 2 | 5 minutes | 466.6
SF LLL | 56 | 2 | 10 minutes | 933
Subtotal | 56 | 43 |  | 1,137,499.5
Total-Disaster |  |  |  | 2,480,150

Non-disaster Programs
Non-disaster program data collection | Number of respondents | Number of responses | Hour burden per response | Total burden hours (in hours)
US&R:
SF 424 | 28 | 1 | 45 minutes | 21
FF 20-20 | 28 | 1 | 9.7 hours | 7,644
FF 20-16,A,B,C | 28 | 1 | 1.7 hours | 49
FF 76-10A | 28 | 1 | 1.2 hours | 35
FF 20-10 (SF 270) | 28 | 1 | 1 hour | 28
SF LLL | 28 | 1 | 10 minutes | 4.7
Subtotal | 28 | 6 |  | 7,781.7
CAP-SSSE:
SF 424 | 56 | 1 | 45 minutes | 42
FF 20-20 | 56 | 1 | 45 minutes | 42
FF 20-20 | 56 | 1 | 9.7 hours | 546
FF 20-15 | 56 | 1 | 17.2 hours | 966
FF 20-16,A,B,C, | 56 | 1 | 1.7 hours | 98
FF 76-10A | 56 | 1 | 1.2 hours | 70
FF 20-10 | 56 | 1 | 1 hour | 56
FF 20-18 | 56 | 1 | 4.2 hours | 238
FF 20-19 | 56 | 1 | 5 minutes | 4.7
SF LLL | 56 | 1 | 10 minutes | 9.5
Subtotal | 56 | 9 |  | 2,030.2
CSEPP:
SF 424 | 10 | 1 | 45 minutes | 7.5
FF 20-20 | 10 | 1 | 9.7 hours | 97.5
FF 20-10 | 10 | 1 | 1 hour | 10
FF 20-16,A,B,C | 10 | 1 | 1.7 hour | 17.5
FF 76-10A | 10 | 1 | 1.2 hour | 12.5
FF 20-10 | 10 | 1 | 1 hour | 10
FF 20-18 | 10 | 1 | 4.2 hours | 42.5
FF 20-19 | 10 | 1 | 5 min | 50
SF LLL | 10 | 1 | 10 minutes | 1.7
Subtotal | 10 | 9 |  | 200
NDSSP:
SF 424 | 51 | 1 | 45 minutes | 38.2
FF 20-20 | 51 | 1 | 9.7 hours | 497.2
FF 20-16,A,B,C | 51 | 1 | 1.7 hours | 89.2
FF 76-10A | 51 | 1 | 1.2 hours | 63.7
FF 20-10 (SF 270) | 51 | 1 | 1 hour | 51
SF LLL | 51 | 1 | 10 minutes | 8.5
Subtotal | 51 | 6 |  | 748
EMPG:
SF 424 | 56 | 1 | 45 minutes | 42
FF 20-20 | 56 | 1 | 9.7 hours | 546
FF 20-15 | 56 | 1 | 17.2 hours | 966
FF 20-16,A,B,C | 56 | 1 | 1.7 hours | 98
FF 76-10A | 56 | 1 | 1.2 hours | 70
FF 20-10 | 56 | 2 | 1 hour | 112
FF20-17 | 56 | 1 | 17.2 hours | 966
FF 20-18 | 56 | 1 | 4.2 hours | 238
FF 20-19 | 56 | 1 | 5 minutes | 4.7
SF LLL | 56 | 1 | 10 minutes | 9.5
Subtotal | 56 | 11 |  | 3,052.2
CERT:
SF 424 | 56 | 1 | 45 minutes | 42
FF 20-20 | 56 | 1 | 9.7 hours | 546
FF 20-16,A,B,C | 56 | 1 | 1.7 hours | 98
FF 20-10 | 56 | 1 | 1 hour | 56
SF LLL | 56 | 1 | 10 minutes | 9.5
Subtotal | 56 | 5 |  | 751.5
ICE:
SF 424 | 17 | 1 | 45 minutes | 12.7
FF 20-20 | 17 | 1 | 9.7 hours | 165.7
FF 20-16,A,B,C | 17 | 1 | 1.7 hours | 29.7
FF 76-10A | 17 | 1 | 1.2 hours | 21.2
FF 20-10 | 17 | 1 | 1 hour | 17
SF LLL | 17 | 1 | 10 minutes | 3
Subtotal | 17 | 6 |  | 249.5
CTP:
SF 424 | 20 | 1 | 45 minutes | 15
FF 20-20 | 20 | 1 | 9.7 hours | 195
FF20-15 | 20 | 1 | 17.2 hours | 345
FF 20-16,A,B,C | 20 | 1 | 1.7 hours | 35
FF 20-10 | 20 | 1 | 1 hour | 20
SF LLL | 20 | 1 | 10 minutes | 3.5
Subtotal | 20 | 6 |  | 613.5
Total-Non-Disaster |  |  |  | 15,425
Grand Total—All Programs |  |  |  | 2,495,575

Estimated Total Annual Burden Hours: 2,480,150 for disaster grants and 15,425 for non-disaster grants for a total of 2,495,575 burden hours.

Frequency of Response: On Occasion and Quarterly.

Comments: Interested persons are invited to submit written comments on the proposed information collection to the Office of Information and Regulatory Affairs at OMB, Attention: Desk Officer for the Emergency Preparedness and Response Directorate/Federal Emergency Management Agency, Department of Homeland Security, 725 17th Street, NW., Docket Library Room 10102, Washington, DC 20503. Comments must be submitted on or before July 6, 2004. In addition, interested persons may also send comments to FEMA (see contact information below).

FOR FURTHER INFORMATION CONTACT: Requests for additional information or copies of the information collection should be made to Muriel B. Anderson, Chief, Records Management, FEMA at 500 C Street, SW., Room 316, Washington, DC 20472, facsimile number (202) 646-3347, or e-mail address FEMA-Information-Collections@ddhs.gov.

Dated: May 26, 2004.
Edward W. Kernan,
Branch Chief, Information Resources Management Branch, Information Technology services Division.

[FR Doc. 04-12696 Filed 6-3-04; 8:45 am]

BILLING CODE 9110-07-M